Title 3—

The President

Executive Order 14016 of February 17, 2021

Revocation of Executive Order 13801

By the authority vested in me as President by the Constitution and the laws of the United States of America, it is hereby ordered that:

Section 1. Revocation of Executive Order. Executive Order 13801 of June 15, 2017 (Expanding Apprenticeships in America), is hereby revoked.

Sec. 2. Implementation. The Director of the Office of Management and Budget and the heads of executive departments and agencies shall promptly consider taking steps to rescind any orders, rules, regulations, guidelines, or policies, or portions thereof, implementing or enforcing the Executive Order identified in section 1 of this order, as appropriate and consistent with applicable law, including the Administrative Procedure Act, 5 U.S.C. 551 et seq. In addition, any personnel positions, committees, task forces, or other entities established pursuant to the Executive Order identified in section 1 of this order shall be abolished, as appropriate and consistent with applicable law.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented in a manner consistent with applicable law and subject to the availability of appropriations.

(c) This order is not intended to, and does not, create any right or benefit, substantive or procedural, enforceable at law or in equity by any party against the United States, its departments, agencies, or entities, its officers, employees, or agents, or any other person.

THE WHITE HOUSE,

February 17, 2021.

[FR Doc. 2021-03874

Filed 2-22-21; 11:15 am]

Billing code 3295-F1-P